DEPARTMENT OF TRANSPORTATION

Office of the Secretary

Aviation Proceedings; Agreements Filed the Week Ending November 28, 2009

The following Agreements were filed with the Department of Transportation under the Sections 412 and 414 of the Federal Aviation Act, as amended (49 U.S.C. 1382 and 1384) and procedures governing proceedings to enforce these provisions. Answers may be filed within 21 days after the filing of the application.

Docket Number: DOT-OST-2009-0312.

Date Filed: November 27, 2009.

Parties: Members of the International Air Transport Association.

Subject: TC3 Japan-Korea, Expedited Resolution 002ma, (Memo 1326), Intended effective date: 15 January 2010.

Docket Number: DOT-OST-2009-0313.

Date Filed: November 27, 2009.

Parties: Members of the International Air Transport Association.

Subject: TC3 Japan, Korea—South Asian Subcontinent Expedited, Resolution 002L, (Memo 1327), Intended effective date: 15 January 2010.

Docket Number: DOT-OST-2009-0314.

Date Filed: November 27, 2009.

Parties: Members of the International Air Transport Association.

Subject: TC3 Japan, Korea—South East Asia (except between Korea (Rep. of) and Guam, Northern Mariana Islands) Expedited Resolution 002k, (Memo 1328), Intended effective date: 15 January 2010.

Docket Number: DOT-OST-2009-0315.

Date Filed: November 27, 2009.

Parties: Members of the International Air Transport Association

Subject: TC3 Japan, Korea—South East Asia between Korea (Rep. of) and Guam, Northern Mariana Islands Resolution 002kk (Memo 1329), Intended effective date: 15 January 2010.

Docket Number: DOT-OST-2009-0316.

Date Filed: November 27, 2009.

Parties: Members of the International Air Transport Association.

Subject: TC3 Within South East Asia (except between Malaysia and Guam) Expedited Resolution 002bi, (Memo 1330), Intended effective date: 15 January 2010.

Renee V. Wright,
Program Manager, Docket Operations, Federal Register Liaison.

[FR Doc. E9-29776 Filed 12-14-09; 8:45 am]

BILLING CODE 4910-9X-P